FEDERAL COMMUNICATIONS COMMISSION

[RM-10803; DA 03-3226]

Broadcasters' Service to Their Local Communities

AGENCY: Federal Communications Commission.

ACTION: Notice of meeting.

SUMMARY: The Federal Communications Commission will hold a Localism Task Force hearing in Charlotte, North Carolina, on October 22, 2003, on localism in the broadcast industry. The purpose of the hearing is to gather information from a variety of sources, including consumers, industry, and civic organizations on broadcasters' service to their local communities.

DATES: The hearing will be held on Wednesday, October 22, 2003, from 5:30 p.m. to 8:45 p.m.

ADDRESSES: The hearing will be held at the Charlotte-Mecklenberg Government Meeting Chamber, located at 600 East Fourth Street, Charlotte, NC 28203.

FOR FURTHER INFORMATION CONTACT: Eric Bash, 202-418-1188.

SUPPLEMENTARY INFORMATION: The Federal Communications Commission (FCC) will hold a Localism Task Force hearing on the subject of localism, to be held on October 22, 2003, in Charlotte, North Carolina. Several FCC Commissioners will preside. The hearing is open to the public, and seating will be available on a first-come, first-served basis. The purpose of the hearing is to gather information from consumers, industry, civic organizations, and others on broadcasters' service to their local communities. The Charlotte hearing will begin with a number of invited guests and panelists making brief introductory remarks. The Commissioners will then have an opportunity to ask the panelists questions or comment on the subject of localism, and the public will be afforded an opportunity to register their views.

2. Open captioning will be provided for this event. Other reasonable accommodations for people with disabilities are available upon request. Please include a description of the accommodation needed, providing as much detail as you can, as well as contact information in case additional information is needed. Please make your request as early as possible. Last minute requests will be accepted, but may be impossible to fulfill. Please send a request by e-mail to fcc504@fcc.gov, or call the Consumer & Governmental Affairs Bureau. For sign language interpreters, CART, and other reasonable accommodations, call 202-418-0530 (voice) or 202-418-0432 (TTY). For accessible format material (Braille, large print, electronic files, and audio format), call 202-418-0531 (voice) or 202-418-7365 (TTY).

3. The hearing will be recorded, and the record will be available to the public. The public may also file comments or other documents with the Commission. Filing instructions are provided at http://hraunfoss.fcc.gov/edocs.public/attachmatch/DOC-239578A1.doc.

Federal Communications Commission.
Robert Ratcliffe,
Deputy Chief, Media Bureau.

[FR Doc. 03-26617 Filed 10-20-03; 8:45 am]

BILLING CODE 6712-01-P